SMALL BUSINESS ADMINISTRATION

[Disaster Declaration #20533 and #20534; FLORIDA Disaster Number FL-20009]

Presidential Declaration Amendment of a Major Disaster for the State of Florida

AGENCY: U.S. Small Business Administration.

ACTION: Amendment 4.

SUMMARY: This is an amendment of the Presidential declaration of a major disaster for the State of Florida (FEMA-4806-DR), dated August 10, 2024.

DATES: Issued on September 13, 2024.

Physical Loan Application Deadline Date: October 9, 2024.

Economic Injury (EIDL) Loan Application Deadline Date: May 12, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Florida, dated August 10, 2024, is hereby amended to include the following areas as adversely affected by the disaster:

Incident: Hurricane Debby.

Incident Period: August 1, 2024 through August 27, 2024.

Primary Counties (Physical Damage and Economic Injury Loans): Baker, Citrus, Hillsborough, Pinellas.

Contiguous Counties (Economic Injury Loans Only):

Florida: Clay, Duval, Hernando, Nassau, Pasco, Sumter.

Georgia: Charlton, Ware.

All other information in the original declaration remains unchanged.

(Catalog of Federal Domestic Assistance Number 59008)

Francisco Sánchez, Jr.,
Associate Administrator, Office of Disaster Recovery & Resilience.

[FR Doc. 2024-21429 Filed 9-18-24; 8:45 am]

BILLING CODE 8026-09-P